DEPARTMENT OF HEALTH AND HUMAN SERVICES

Administration for Children and Families

State Median Income Estimates for a Four-Person Household: Notice of the Federal Fiscal Year (FFY) 2013 State Median Income Estimates for Use Under the Low Income Home Energy Assistance Program (LIHEAP)

AGENCY: Administration for Children and Families, Office of Community Services, Division of Energy Assistance, HHS.

ACTION: Notice of State median income estimates for FFY 2013.

SUMMARY: This notice announces to grantees of the Low Income Home Energy Assistance Program (LIHEAP) the estimated median income of four-person households in each State and the District of Columbia for FFY 2013 (October 1, 2012, to September 30, 2013). LIHEAP grantees that choose to base their income eligibility criteria on these State Median Income (SMI) estimates may adopt these estimates (up to 60 percent) on their date of publication in the Federal Register or on a later date as discussed below. This enables grantees to implement this notice during the period between the heating and cooling seasons. However, by October 1, 2012, or the beginning of the grantees' fiscal year, whichever is later, such grantees must adjust their income eligibility criteria so that such criteria are in accord with the FFY 2013 SMI.

The 60 percent of SMI criterion provides one of the maximum income criteria that LIHEAP grantees may use in determining a household's income eligibility for LIHEAP.

The LIHEAP appropriations for FFY 2009 through April 15, 2011 raised this criterion from 60 percent of SMI to 75 percent of SMI for that period. However, no change was made to the LIHEAP authorizing statute. Furthermore, the LIHEAP appropriation for FFY 2012 did not alter this criterion; thus it returned to 60 percent of SMI for FFY 2012.

DATES: Effective Date: These estimates become effective at any time between the date of this publication and the later of (1) October 1, 2012; or (2) the beginning of a grantees' fiscal year.

FOR FURTHER INFORMATION CONTACT: Peter Edelman, Office of Community Services, Division of Energy Assistance, 5th Floor West, 370 L'Enfant Promenade SW., Washington, DC 20447. Telephone: (202) 401-5292, E-Mail: peter.edelman@acf.hhs.gov.

SUPPLEMENTARY INFORMATION: Under the provisions of section 2603(11) of Title XXVI of the Omnibus Budget Reconciliation Act of 1981, Public Law (Pub. L.) 97-35, as amended, HHS announces the estimated median income of four-person families for each State, the District of Columbia, and the United States for FFY 2013 (October 1, 2012, through September 30, 2013).

Section 2605(b)(2)(B)(ii) of this Act provides that 60 percent of the median income of four-person families for each State and the District of Columbia (State median income, or SMI), as annually established by the Secretary of Health and Human Services, is one of the income criteria that LIHEAP grantees may use in determining a household's eligibility for LIHEAP.

LIHEAP was last authorized by the Energy Policy Act of 2005, Public Law 109-58, which was enacted on August 8, 2005. This authorization expired on September 30, 2007, and reauthorization remains pending.

The SMI estimates that HHS publishes in this notice are 3-year estimates derived from the American Community Survey (ACS) conducted by the U.S. Census Bureau, U.S. Department of Commerce (Census Bureau). HHS obtained these estimates directly from the Census Bureau. For additional information about the ACS State median income estimates, including the definition of income and the derivation of medians see http://www.census.gov/acs/www/Downloads/data_documentation/SubjectDefinitions/2010_ACSSubjectDefinitions.pdf under “Income in the Past 12 Months.” For additional information about the ACS in general, see http://www.census.gov/acs/www/ or contact the Census Bureau's Social, Economic and Housing Statistics Division at (301) 763-3243.

Under the advice of the Census Bureau, HHS switched to 3-year estimates from single-year estimates to reduce the large year-to-year fluctuations that the single-year estimates tend to generate for certain States and the District of Columbia. HHS plans to use the Census Bureau's ACS-derived SMI three-year estimates for all fiscal years after 2010. For further information about ACS one-year and 3-year estimates, see http://www.census.gov/acs/www/guidance_for_data_users/estimates/.

The SMI estimates, like those derived from any survey, are subject to two types of errors: (1) Nonsampling Error, which consists of random errors that increase the variability of the data and non-random errors that consistently shift the data into a specific direction; and (2) Sampling Error, which consists of the error that arises from the use of probability sampling to create the sample. For additional information about the accuracy of the ACS SMI estimates, see http://www.census.gov/acs/www/Downloads/data_documentation/Accuracy/MultiyearACSAccuracyofData2010.pdf.

A State-by-State listing of SMI and 60 percent of SMI for a four-person family for FFY 2013 follows. In using this listing, LIHEAP grantees must regard “family” to be the equivalent of “household” with regards to setting their income eligibility criteria. This listing describes the method for adjusting SMI for households of different sizes as specified in regulations applicable to LIHEAP, at 45 CFR 96.85(b), which were published in the Federal Register on March 3, 1988, at 53 FR 6824 and amended on October 15, 1999, at 64 FR 55858.

Dated: March 7, 2012.
Jeannie L. Chaffin,
Director, Office of Community Services.

Estimated State Median Income for a Four-Person Family, by State, for Federal Fiscal Year (FFY) 2013, for Use in the Low Income Home Energy Assistance Program (LIHEAP)
States | Estimated State median income for four-person families ¹ | 60 percent of esti-mated State me-dian income for four-person families ²,³
Alabama | $64,079 | $38,447
Alaska | 86,658 | 51,995
Arizona | 66,350 | 39,810
Arkansas | 56,975 | 34,185
California | 77,896 | 46,738
Colorado | 81,477 | 48,886
Connecticut | 101,973 | 61,184
Delaware | 85,490 | 51,294
District of Columbia | 76,652 | 45,991
Florida | 65,728 | 39,437
Georgia | 67,276 | 40,366
Hawaii | 87,456 | 52,474
Idaho | 61,631 | 36,979
Illinois | 80,858 | 48,515
Indiana | 69,929 | 41,957
Iowa | 73,972 | 44,383
Kansas | 71,899 | 43,139
Kentucky | 64,119 | 38,471
Louisiana | 66,896 | 40,138
Maine | 71,237 | 42,742
Maryland | 102,002 | 61,201
Massachusetts | 100,228 | 60,137
Michigan | 72,937 | 43,762
Minnesota | 85,577 | 51,346
Mississippi | 57,132 | 34,279
Missouri | 69,727 | 41,836
Montana | 67,097 | 40,258
Nebraska | 71,864 | 43,118
Nevada | 69,197 | 41,518
New Hampshire | 92,216 | 55,330
New Jersey | 102,552 | 61,531
New Mexico | 55,446 | 33,268
New York | 82,222 | 49,333
North Carolina | 66,978 | 40,187
North Dakota | 78,295 | 46,977
Ohio | 72,732 | 43,639
Oklahoma | 61,941 | 37,165
Oregon | 70,957 | 42,574
Pennsylvania | 78,576 | 47,146
Rhode Island | 88,083 | 52,850
South Carolina | 64,303 | 38,582
South Dakota | 69,221 | 41,533
Tennessee | 62,902 | 37,741
Texas | 66,093 | 39,656
Utah | 68,068 | 40,841
Vermont | 76,418 | 45,851
Virginia | 87,209 | 52,325
Washington | 81,797 | 49,078
West Virginia | 60,825 | 36,495
Wisconsin | 77,829 | 46,697
Wyoming | 74,281 | 44,569

Note: FFY 2013 covers the period of October 1, 2012, through September 30, 2013. The estimated median income for four-person families living in the United States for this period is $74,964. Grantees that use SMI for LIHEAP may, at their option, employ such estimates at any time between the date of this publication and the later of October 1, 2012 or the beginning of their fiscal years.

¹ Prepared by the U.S. Census Bureau, U.S. Department of Commerce (Census Bureau), from three-year estimates from the 2008, 2009 and 2010 American Community Surveys (ACSs). These estimates, like those derived from any survey, are subject to two types of errors: (1) Nonsampling Error, which consists of random errors that increase the variability of the data and non-random errors that consistently direct the data into a specific direction; and (2) Sampling Error, which consists of the error that arises from the use of probability sampling to create the sample.

² These figures were calculated by the U.S. Department of Health and Human Services, Administration for Children and Families, Office of Community Services, Division of Energy Assistance by multiplying the estimated State median income for a four-person family for each State by 60 percent.

³ To adjust for different sizes of household for LIHEAP purposes, 45 CFR 96.85 calls for multiplying 60 percent of a State's estimated median income for a four-person family by the following percentages: 52 percent for one person, 68 percent for two persons, 84 percent for three persons, 100 percent for four persons, 116 percent for five persons, and 132 percent for six persons. For each additional family member above six persons, 45 CFR 96.85 calls for adding 3 percentage points to the percentage for a six-person family (132 percent) and multiply the new percentage by 60 percent of a State's estimated median income for a four-person family.

[FR Doc. 2012-6220 Filed 3-14-12; 8:45 am]

BILLING CODE 4184-24-P